DEPARTMENT OF THE INTERIOR

Fish and Wildlife Service

Availability of Comprehensive Conservation Plans and Environmental Assessments for: Shiawassee National Wildlife Refuge, Saginaw, Michigan; Michigan Wetland Management District, East Lansing, Michigan; Wyandotte National Wildlife Refuge, Wyandotte and Ecorse, Michigan; and Rydell National Wildlife Refuge, Erskine, Minnesota

AGENCY: U.S. Fish and Wildlife Service, Interior.

ACTION: Notice of availability.

SUMMARY: Pursuant to the Refuge Improvement Act of 1997, the U.S. Fish and Wildlife Service has published final Comprehensive Conservation Plans and Environmental Assessments for Wyandotte National Wildlife Refuge (NWR); Rydell NWR; and Shiawassee NWR, which includes the Michigan Wetland Management District. These plans describe how the Service intends to manage the three refuges and the wetland management district of the next 15 years.

ADDRESSES: A plan or summary may be obtained by writing to the Refuge or submitting a request electronically. For a copy of the Rydell NWR Comprehensive Conservation Plan, address requests to: Rydell National Wildlife Refuge, Route 3, Box 105, Erskine, Minnesota 56535, or direct e-mail to r3planning@fws.gov. The Shiawassee NWR and Wyandotte NWR comprehensive conservation plans are available by writing to: Shiawassee National Wildlife Refuge, 6975 Mower Road, Saginaw, Michigan 48601, or submitting a request electronically to fw3shiawassee@fws.gov.

FOR FURTHER INFORMATION CONTACT: For additional information on either the Shiawassee NWR or Wyandotte NWR comprehensive conservation plans, contact Doug Spencer, Refuge Manager, at the address above or call the Refuge at 989/777-5930. For additional information related to the Rydell NWR plan, contact Rick Julian, Refuge Manager, at the address listed above or call the Refuge at 218/687-2229. For additional information related to the Michigan Wetland Management District, contact Jim Hudgins, Project Leader, U.S. Fish & Wildlife Service, 2651 Coolidge Road, East Lansing, Michigan 48823, or call 517/351-4230.

SUPPLEMENTARY INFORMATION: In 1997, Congress mandated that the Service prepare a comprehensive conservation plan for each refuge within the National Wildlife Refuge System. Comprehensive conservation plans guide management decisions over the course of 15 years. They identify refuge goals and objectives as well as strategies for achieving those goals and objectives. Plans will be reviewed and updated at least every 15 years. Public input is the foundation of the planning process, and there were many opportunities for public involvement as plans were developed for Shiawassee, Wyandotte, and Rydell National Wildlife Refuges. The plans provide other agencies and the public with a clear understanding of the desired conditions of each Refuge and how the Service will implement management strategies.

Dated: February 21, 2002.
William F. Hartwig,
Regional Director.

[FR Doc. 02-4586 Filed 2-26-02; 8:45 am]

BILLING CODE 4310-55-M